DEPARTMENT OF ENERGY

Federal Energy Regulatory Commission

[Docket No. CP00-370-002]

Columbia Gas Transmission Corporation; Notice of Cancellation Rate Schedule X-45

August 16, 2000.

Take notice that on August 9, 2000, Columbia Gas Transmission Corporation (Columbia) tendered for filing with the Federal Energy Regulatory Commission (Commission) the following changes to its FERC Gas Tariff effective September 9, 2000:

Second Revised Volume No. 1

Third Revised Sheet No. 6

Original Volume No. 2

Seventeenth Revised Sheet No. 4

First Revised Sheet No. 439

Columbia states that this filing is being made to provide for the cancellation in its entirety of Columbia's Rate Schedule X-45 authorized under Docket No. CP76-256 (56 FPC 932 (1976)).

The cancellation of Rate Schedule X-45 is being filed pursuant to an order issued on July 14, 2000 in Docket No. CP00-370-000 (93 FERC 62,025 (2000)), wherein the Commission granted Columbia permission to abandon service under the above-referenced agreement.

Columbia states further that copies of this filing have been mailed to all of its customers and affected state regulatory commissions. This filing is also available for public inspection at its offices at 12801 Fair Lakes Parkway, Fairfax, Virginia and 10 G Street, N.E., Suite 580, Washington, D.C.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21298 Filed 8-21-00; 8:45 am]

BILLING CODE 6717-01-M